FEDERAL MARITIME COMMISSION

[Docket No. 09-05]

Application of Leonardo Ortiz for Admission To Practice Before the Federal Maritime Commission; Order Initiating Proceeding

On December 31, 2007, Respondent Leonardo Ortiz (“Mr. Ortiz”) filed his Application for Admission to Practice before the Federal Maritime Commission (“Form FMC-12”). According to his application, Mr. Ortiz is self-employed. His business is located at 4324 Belton Highway, Anderson, SC 29621.

The Federal Maritime Commission (“Commission”) allows for attorney and non-attorney practitioners. In order to be admitted to practice before the Commission as a non-attorney, Rule 27 of the Commission's Rules of Practice and Procedure, 46 CFR § 502.27, requires that the applicant file proof that he or she possesses, to the satisfaction of the Commission, “the necessary legal, technical, or other qualifications to render valuable service before the Commission and is otherwise competent to advise and assist in the presentation of matters before [it].” Further, if the Commission is not satisfied that the applicant has sufficient qualifications, it will notify the applicant and, if requested, the applicant will be granted a hearing “for the purpose of showing his or her qualifications.” 46 CFR 502.29.

After reviewing his application, the Commission determined that Mr. Ortiz did not demonstrate that he possesses the qualifications required to practice before the Commission.¹ On April 15, 2009, the Secretary of the Commission notified Mr. Ortiz of the Commission's intent to deny his application for admission to practice before it and the procedures permitting a request for a hearing. On April 29, 2009, Mr. Ortiz filed his request for a hearing on the issue.

¹ Pursuant to 46 CFR 501.24(a), the Commission has delegated to the Secretary the authority to approve applications for permission to practice before the Commission and to issue admission certificates to approved applicants.

Now therefore, it is ordered that pursuant to Rule 29 of the Commission's Rules of Practice and Procedure, 46 CFR 502.29, the Commission institute a proceeding for the purpose of allowing Mr. Ortiz to show his qualifications to practice before it as a non-lawyer;

It is further ordered that this matter be heard before the Commission;

It is further ordered that this proceeding is limited to the submission of affidavits of fact and memoranda of law;

It is further ordered that any person having an interest and desiring to intervene in this proceeding shall file a petition for leave to intervene in accordance with Rule 72 of the Commission's Rules of Practice and Procedure, 46 CFR 502.72. Such petition shall be accompanied by the petitioner's memorandum of law and affidavit of fact, if any, and shall be filed no later than the day fixed below;

It is further ordered that Leonardo Ortiz is named as Respondent in this proceeding. Affidavits of fact and memoranda of law shall be filed by the Respondent and any intervenors in support of the Respondent no later than September 4, 2009;

It is further ordered that the Commission's Bureau of Enforcement be made a party to this proceeding;

It is further ordered that rebuttal affidavits and memoranda of law shall be filed by the Bureau of Enforcement and any intervenors in opposition to the Respondent no later than October 5, 2009;

It is further ordered that reply affidavits and memoranda of law shall be filed by the Respondent and intervenors in support no later than October 20, 2009;

It is further ordered that:

(a) Should any party believe that an evidentiary hearing is required, that party must submit a request for such a hearing together with a statement setting forth in detail the facts to be proved, the relevance of those facts to the issues in this proceeding, a description of the evidence which would be adduced, and why such evidence cannot be submitted by affidavit;

(b) Should any party believe that an oral argument is required, that party must submit a request specifying the reasons therefor and why argument by memorandum is inadequate to present the party's case; and

(c) Any request for evidentiary hearing or oral argument shall be filed no later than October 5, 2009;

It is further ordered that notice of this proceeding be published in the Federal Register and that a copy thereof be served upon Respondent at his last known address;

It is further ordered that all documents submitted by any party of record in this proceeding shall be filed in accordance with Rule 118 of the Commission's Rules of Practice and Procedure, 46 CFR 502.118, as well as being mailed directly to all parties of record;

Finally, it is ordered that pursuant to the terms of Rule 61 of the Commission's Rules of Practice and Procedure, 46 CFR 502.61, the final decision of the Commission in this proceeding shall be issued by February 17, 2010.

By the Commission.
Karen V. Gregory,
Secretary.

[FR Doc. E9-18601 Filed 8-3-09; 8:45 am]

BILLING CODE P